SECURITIES AND EXCHANGE COMMISSION

[Release No. 34-59199; File No.

SR-DTC-2008-14]

Self-Regulatory Organizations; The Depository Trust Company; Notice of Filing and Immediate Effectiveness of Proposed Rule Change To Modify Existing Operational Arrangements

Correction

In notice document E9-349 beginning on page 1266 in the issue of Monday January 12, 2009 make the following correction:

On page 1268, in the second column, in the last line of the first paragraph, “January 29, 2009” should read “February 2, 2009”.

[FR Doc. Z9-349 Filed 1-28-09; 8:45 am]

BILLING CODE 1505-01-D